DEPARTMENT OF COMMERCE

National Oceanic and Atmospheric Administration

Federal Consistency Appeal by Jordan Cove Energy Project, L.P. and Pacific Connector Gas Pipeline, LP

AGENCY: National Oceanic and Atmospheric Administration (NOAA), Department of Commerce (DOC).

ACTION: Notice of appeal.

SUMMARY: This announcement provides notice that the Department of Commerce has received a “Notice of Appeal” filed by Appellants Jordan Cove Energy Project, L.P. and Pacific Connector Gas Pipeline, LP. Appellants are requesting that the Secretary of Commerce override an objection by the Oregon Department of Land Conservation and Development to a consistency certification for a proposed project to construct and operate a liquified natural gas export terminal and a 229-mile interstate natural gas pipeline and compressor station off the Pacific Coast.

ADDRESSES: NOAA intends to post publicly available materials and related documents comprising the appeal record on the following website: http://www.regulations.gov/#!docketDetail;D=NOAA-HQ-2020-0058.

FOR FURTHER INFORMATION CONTACT: For questions about this Notice, contact Rachel Morris, Attorney-Advisor, NOAA Office of the General Counsel, Oceans and Coasts Section, and Patrick Carroll, Attorney-Advisor, NOAA Office of the General Counsel, Oceans and Coasts Section, at jordancove.appeal@noaa.gov or (301) 713-7387.

SUPPLEMENTARY INFORMATION:

I. Notice of Appeal

On March 20, 2020, the Secretary of Commerce (Secretary) received a “Notice of Appeal” filed by Appellants Jordan Cove Energy Project, L.P. and Pacific Connector Gas Pipeline, LP pursuant to the Coastal Zone Management Act of 1972 (CZMA), 16 U.S.C. 1451 et seq., and implementing regulations found at 15 CFR part 930, subpart H. Appellants are appealing an objection by the Oregon Department of Land Conservation and Development to Appellants' CZMA federal consistency certification for a proposed project to construct and operate a liquified natural gas (LNG) export terminal within the North Spit of Coos Bay and a 229-mile interstate natural gas pipeline and compressor station to connect the LNG export terminal to existing pipeline infrastructure. This matter constitutes an appeal of an “energy project” within the meaning of the CZMA regulations. See 15 CFR 930.123(c).

Under the CZMA, the Secretary may override the Oregon Department of Land Conservation and Development's objection on grounds that the project is consistent with the objectives or purposes of the CZMA, or is necessary in the interest of national security. To make the determination that the proposed activity is “consistent with the objectives or purposes of the CZMA,” the Secretary must find that: (1) The proposed activity furthers the national interest as articulated in sections 302 or 303 of the CZMA, in a significant or substantial manner; (2) the national interest furthered by the proposed activity outweighs the activity's adverse coastal effects, when those effects are considered separately or cumulatively; and (3) no reasonable alternative is available that would permit the proposed activity to be conducted in a manner consistent with the enforceable policies of the applicable coastal management program. 15 CFR 930.121. To make the determination that the proposed activity is “necessary in the interest of national security,” the Secretary must find that a national defense or other national security interest would be significantly impaired if the proposed activity is not permitted to go forward as proposed. 15 CFR 930.122.

II. Public Availability of Appeal Documents

NOAA intends to provide access to publicly available materials and related documents comprising the appeal record on the following website: http://www.regulations.gov/#!docketDetail;D=NOAA-HQ-2020-0058.

The consolidated record maintained by the lead federal permitting agency is also located at FERC Docket Numbers CP17-494 and CP17-495, FERC Online Docket Search, available at https://elibrary.ferc.gov/idmws/docket_search.asp.

Authority Citation: 15 CFR 930.128(a).

Adam Dilts,
Chief, Oceans and Coasts Section, NOAA Office of General Counsel.

[FR Doc. 2020-07862 Filed 4-17-20; 8:45 am]

BILLING CODE 3510-JE-P